DEPARTMENT OF HEALTH AND HUMAN SERVICES

Centers for Disease Control and Prevention

Alcohol Syndrome and Fetal Alcohol Effect National Task Force Meeting; Correction

AGENCY: Centers for Disease Control and Prevention, HHS.

ACTION: Notice; correction.

Name: National Task Force on Fetal Alcohol Syndrome and Fetal Alcohol Effect (NTFFAS/FAE): Correction.

Times and Dates: 8:30 a.m.-4:30 p.m., September 20, 2002. 8:30 a.m.-12 noon, September 21, 2002.

SUMMARY: The National Task Force on Fetal Alcohol Syndrome and Fetal Alcohol Effect published a notice in the Federal Register of August 8, 2002, announcing a meeting place.

Correction

In the Federal Register of August 8, 2002, Volume 67, Number 153, Notice, Page 51584, “Place” should read:

Place: Marriott Atlanta Marquis, 265 Peachtree Center Avenue, Atlanta, Georgia 30303, telephone 404/521-0000; fax 404/586-6299.

FOR FURTHER INFORMATION CONTACT: Louise Floyd, 770/488-7372.

The Director, Management Analysis and Services Office, has been delegated the authority to sign Federal Register Notices pertaining to announcements of meetings and other committee management activities, for both the Centers for Disease Control and Prevention and the Agency for Toxic Substances and Disease Registry.

Dated: September 5, 2002.
John Burckhardt,
Acting Director, Management Analysis and Services Office, Centers for Disease Control and Prevention.

[FR Doc. 02-23188 Filed 9-11-02; 8:45 am]

BILLING CODE 4163-18-P